DEPARTMENT OF THE INTERIOR

Fish and Wildlife Service

50 CFR Part 17

RIN 1018-AF20

Endangered and Threatened Wildlife and Plants; Final Rule to Reclassify and Remove the Gray Wolf from the List of Endangered and Threatened Wildlife in Portions of the Conterminous United States; Establishment of Two Special Regulations for Threatened Gray Wolves

Correction

In rule document 03-7018 beginning on page 15804 in the issue of Tuesday, April 1, 2003 make the following corrections:

1. On page 15864, in the table, in the second column heading, “Experimental Populations Special Rules 50 CFR 17.40(n):” should read “Experimental Populations Special Rules 50 CFR 17.84(i):”.

2. On page 15875, in the third column, in the first paragraph, in the 11th line, “paragraph (n)” should read “paragraph (o)”.

[FR Doc. C3-7018 Filed 4-8-03; 8:45 am]

BILLING CODE 1505-01-D